FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 10, 2010.

A. Federal Reserve Bank of Atlanta (Steve Foley, Vice President) 1000 Peachtree Street, N.E., Atlanta, Georgia 30309:

1. Richard T. Alger; the Richard T. Alger Revocable Trust; Richard T. Alger, trustee; and the Mason W. Alger and Dorothy Turner Alger Irrevocable Trust for Thomas M. Alger; Richard T. Alger, trustee; John Alger and Carla Alger, all of Homestead, Florida; to acquire voting shares of Hometown of Homestead Banking Company, and thereby indirectly acquire voting shares of 1st National Bank of South Florida, both of Homestead, Florida.

B. Federal Reserve Bank of Minneapolis (Jacqueline G. King, Community Affairs Officer) 90 Hennepin Avenue, Minneapolis, Minnesota 55480-0291:

1. David Tychman, Seattle, Washington; individually and as trustee of eight Tychman/Sanders family trusts', to retain voting shares of The Tysan Corporation, Minneapolis, Minnesota. The trustees of one or more of nine Tychman/Sanders family trusts (James Sanders, Plymouth, Minnesota, Deera Tychman, Edina, Minnesota, Judith Shapiro, Saint Louis Park, Minnesota, and David Tychman, Seattle, Washington), for retroactive permission for the nine trusts to join the Tychman/Sanders group which controls 25 percent or more of The Tysan Corporation, Minneapolis, Minnesota, and includes 17 other Tychman/Sanders family trusts. The Tysan Corporation controls Lake Community Bank, Long Lake, Minnesota, Pine Country Bank, Little Falls, Minnesota, and Blaine State Bank, Blaine, Minnesota.

Board of Governors of the Federal Reserve System, February 18, 2010.
Robert deV. Frierson,
Deputy Secretary of the Board.

[FR Doc. 2010-3540 Filed 2-23-10; 8:45 am]

BILLING CODE 6210-01-S